NUCLEAR REGULATORY COMMISSION

[Docket No. 72-22-ISFSI]

In the Matter of Private Fuel Storage, L.L.C. (Independent Spent Fuel Storage Installation); Notice of Appointment of Adjudicatory Employee

Commissioners: Nils J. Diaz, Chairman, Edward McGaffigan, Jr., Jeffrey S. Merrifield.

Pursuant to 10 CFR 2.4, notice is hereby given that Dr. Yong Li of the NRC's Office of Research has been appointed as a Commission adjudicatory employee within the meaning of section 2.4, to advise the Commission regarding issues relating to the pending petition for review of LBP-03-08 in the matter of Private Fuel Storage, L.L.C. Dr. Li has not previously performed any investigative or litigating function in connection with this or any related proceeding. Until such time as a final decision is issued in this matter, interested persons outside the agency and agency employees performing investigative or litigating functions in this proceeding are required to observe the restrictions of 10 CFR 2.780 and 2.781 in their communications with Dr. Li.

It is so ordered.

Dated at Rockville, Maryland, this 3rd day of July, 2003.
For the Commission.
J. Samuel Walker,
Acting Secretary of the Commission.

[FR Doc. 03-17584 Filed 7-10-03; 8:45 am]

BILLING CODE 7590-01-P